DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Lisa M. Palluconi, Acting Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On September 16, 2024, OFAC determined that the property and interests in property subject to U.S. jurisdiction of the following persons are blocked under the relevant sanctions authority listed below.

Individuals

1. KHARAZISHVILI, Zviad (a.k.a. “KHAREBA”), Micro District III, Gldani Bldg 68, Apt. 71, Tbilisi, Georgia; DOB 20 Mar 1975; POB Kareli, Georgia; nationality Georgia; Gender Male (individual) [GLOMAG].

Designated pursuant to section 1(a)(ii)(C)(1) of Executive Order 13818 of December 20, 2017, “Blocking the Property of Persons Involved in Serious Human Rights Abuse or Corruption,” 82 FR 60839, 3 CFR, 2017 Comp., p. 399, (E.O. 13818) for being a foreign person who is or has been a leader or official of an entity, including any government entity, that has engaged in, or whose members have engaged in, serious human rights abuse relating to the leader's or official's tenure.

2. LAGAZAURI, Mileri, 19 MR Building 4, Apt 12, Rustavi, Georgia; DOB 23 Nov 1977; POB Akhmeta, Georgia; nationality Georgia; Gender Male; Passport 18AD22156 (Georgia) issued 21 May 2019 expires 21 May 2029 (individual) [GLOMAG].

Designated pursuant to section 1(a)(ii)(C)(1) of E.O. 13818 for being a foreign person who is or has been a leader or official of an entity, including any government entity, that has engaged in, or whose members have engaged in, serious human rights abuse relating to the leader's or official's tenure.

3. MAKHARADZE, Zurab, Georgia; DOB 21 Jan 1988; POB Georgia; nationality Georgia; Gender Male (individual) [GLOMAG].

Designated pursuant to section 1(a)(ii)(A) of E.O. 13818 for being a foreign person who is responsible for or complicit in, or has directly or indirectly engaged in, serious human rights abuse.

4. MORGOSHIA, Konstantine, 2 Build, Apt 14, 2nd Plateau Nutsubidze, Tbilisi, Georgia; DOB 28 May 1982; POB Tbilisi, Georgia; nationality Georgia; Gender Male; Passport 15BB67342 (Georgia) issued 02 Nov 2016 expires 02 Nov 2026 (individual) [GLOMAG].

Designated pursuant to section 1(a)(ii)(A) of E.O. 13818 or being a foreign person who is responsible for or complicit in, or has directly or indirectly engaged in, serious human rights abuse.

Dated: September 16, 2024.
Lisa M. Palluconi,
Acting Director, Office of Foreign Assets Control, U.S. Department of the Treasury.

[FR Doc. 2024-24722 Filed 10-23-24; 8:45 am]

BILLING CODE 4810-AL-P